DEPARTMENT OF AGRICULTURE

Submission for OMB Review; Comment Request

July 8, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by August 12, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: 2022 Census of Agriculture.

OMB Control Number: 0535-0226.

Summary of Collection: The National Agricultural Statistics Service conducts surveys in order to prepare national, state, and county estimates of crop and livestock production, disposition, prices, as well as statistics on related environmental and economic factors. Every five years these survey statistics are benchmarked with a complete census of agricultural producers. This census is required by law under the “Census of Agriculture Act of 1997,” Public Law 105-113 (7 U.S.C. 2204g). It is the primary source of detailed state and county data that provides critical information for the agricultural sector. Without the census, there would be no source of reliable, comparable data throughout the more than 3,000 counties in the 50 States and Puerto Rico. For the outlying areas of American Samoa (AS), the Commonwealth of the Northern Mariana Islands (CNMI), Guam, and the U.S. Virgin Islands (USVI), it is the only source of consistent, comparable agricultural data.

Need and Use of the Information: The data collection for the censuses of agriculture for the 50 states and Puerto Rico will be conducted primarily by mail-out/mail-back procedures (U.S. Postal Service), internet, and with phone and field enumeration for targeted non-respondents. Data collection for Guam, the U.S. Virgin Islands, Commonwealth of the Northern Mariana Islands and American Samoa will be conducted using direct enumeration methods only. The census provides data on the number and types of farms, land use, crop area and selected production, livestock inventory and sales, production contracts, production expenses, farm-related income, and other demographic characteristics. This information will serve as the basis for many agriculturally-based decisions. Census information is used by the Administration, Congress, and the Federal Agencies to formulate and evaluate national agricultural programs and policy. The Department of Agriculture and the Bureau of Economic Analysis use Census data to compile farm sector economic indicators. State and local governments use Census data in the development of local agricultural programs.

Description of Respondents: Farms; Individuals or households.

Number of Respondents: 4,744,650.

Frequency of Responses: Reporting: Other (Every 5 years).

Total Burden Hours: 3,276,166.

Levi S. Harrell,
Departmental Information Collection Clearance Officer.

[FR Doc. 2021-14829 Filed 7-12-21; 8:45 am]

BILLING CODE 3410-20-P